DEPARTMENT OF DEFENSE

Department of the Army, Corps of Engineers

Notice of Intent To Prepare a Supplemental Environmental Impact Statement for the Operation and Maintenance of the Willamette Valley System

AGENCY: U.S. Army Corps of Engineers, Department of the Army, DoD.

ACTION: Notice of intent.

SUMMARY: Pursuant to the National Environmental Policy Act (NEPA) of 1969, as amended, the U.S. Army Corps of Engineers, Portland District (USACE) intends to prepare a Supplemental Environmental Impact Statement (SEIS) to address the directive in the 2024 Water Resources Development Act (WRDA) to formally analyze an alternative that would cease hydropower operations at USACE owned and operated Willamette Valley Projects. The Willamette Valley System (WVS) must operate for its Congressionally authorized project purposes while complying with all applicable laws, including the Endangered Species Act (ESA), to avoid jeopardizing the continued existence of listed species. The USACE will serve as the lead Federal agency for the SEIS.

DATES: The USACE invites Federal and State agencies, Native American Tribes, local governments, interested parties, and the public to submit comments on development of the scope of the SEIS by June 6, 2025.

ADDRESSES: Send written scoping comments to U.S. Army Corps of Engineers, Portland District, P.O. Box 2946, Attn: CENWP-PME-E, Portland, OR 97208-2946. Email comments or requests to be added to the mailing list to: willamette.eis@usace.army.mil. All comments and materials received, including names and addresses, will become part of the administrative record and may be released to the public.

FOR FURTHER INFORMATION CONTACT: For questions regarding the SEIS, or special accommodations for scoping process participation, please contact Mr. Garrett Dorsey, Chief of Environmental Planning, (541) 525-4417. For media inquiries, please contact USACE, Portland District, via email at cenwp-pa@usace.army.mil.

SUPPLEMENTARY INFORMATION:

1. Background. The WVS consists of 13 multipurpose dams and reservoirs, riverbank protection projects in the Willamette River Basin in Oregon, and hatchery programs to mitigate for effects of the project on fish habitat. USACE completed the most recent NEPA evaluation for the overall WVS operations and maintenance in April 2025. The Record of Decision for that effort was narrow, including only the necessary interim actions, while the longer-term actions could be compared with an alternative that would cease hydropower operations as directed by section 1326 of the WRDA 2024. USACE will prepare the SEIS in accordance with NEPA (42 U.S.C. 4321) and USACE's NEPA regulations (33 CFR part 230). The USACE received the National Marine Fisheries Service's (NMFS) Biological Opinion for the continued operations and maintenance of the WVS under section 7 of the ESA in December 2024. The SEIS will also include actions included in the 2024 NMFS Biological Opinion that were not previously analyzed. ESA section 7 consultation with U.S. Fish and Wildlife Service is ongoing. Consultation under section 106 of the National Historic Preservation Act is also ongoing. The USACE anticipates making the draft SEIS available for public comment in Fall of 2025.

The USACE invited the Tribes and Federal and State agencies that participated as cooperating agencies for the previous WVS EIS to participate as cooperators on the SEIS. Those Tribes and agencies include: Confederated Tribes of Warm Springs Reservation of Oregon, Confederated Tribes of Grand Ronde Community of Oregon, Confederated Tribes of Siletz Indians, Bonneville Power Administration, National Marine Fisheries Service (NMFS), U.S. Bureau of Reclamation, U.S. Fish and Wildlife Service, Environmental Protection Agency (EPA), Oregon Department of Fish and Wildlife, Oregon Water Resources Department, Oregon Department of Environmental Quality, and Oregon Department of Agriculture.

2. Alternatives. The SEIS will include and build off the alternatives developed for the FEIS. USACE will add actions to address the NMFS 2024 Biological Opinion and the Congressional directive in WRDA 2024 to formally analyze an alternative that ceases hydropower operations at the USACE's Willamette Valley dams. Comments received during the scoping comment period will inform the development of additional actions, the new “no-hydropower alternative”, and how it is analyzed.

3. Scoping Process/Public Involvement. The public scoping process is to provide information to the public, narrow the scope of analysis to significant environmental issues, solicit agency and public input on alternatives and issues of concern, and ensure full and open participation in scoping for the Draft SEIS. The USACE will hold public scoping meetings during the scoping period. The specific dates, times, and locations of the meetings will be published on the USACE's website for this SEIS: https://www.nwp.usace.army.mil/WVS-EIS. Documents and other important information related to the SEIS will be available for review on the USACE's SEIS website.

Jeffrey D. Hall,
Colonel, Corps of Engineers, Deputy Division Commander.

[FR Doc. 2025-08689 Filed 5-15-25; 8:45 am]

BILLING CODE 3720-58-P